DEPARTMENT OF THE INTERIOR

Bureau of Land Management

[21XLLAKA01000 L1440000.EQ0000.241A; AA-094281]

Notice of Realty Action: Proposed Non-Competitive Lease of Public Land in the Kusilvak (Formerly Wade Hampton) Census Area, Alaska

AGENCY: Bureau of Land Management, Interior.

ACTION: Notice of realty action.

SUMMARY: The Bureau of Land Management (BLM), Anchorage Field Office, proposes to issue a non-competitive lease to Jonathan Penz (applicant) across 0.5-acres of public land in the Kusilvak Census Area, Alaska, for commercial purposes. The BLM Bering Sea-Western Interior Resource Management Plan, approved in January 2021, allows land use leases to be authorized on the subject parcel. The lease would be authorized pursuant to Section 302 of the Federal Land Policy and Management Act of 1976, as amended (FLPMA), and processed in accordance with BLM regulations.

DATES: Submit written comments regarding this proposed lease by May 31, 2022.

ADDRESSES: Only written comments submitted by postal service or overnight mail will be considered as properly filed. Send comments to: Field Manager, BLM Anchorage Field Office, 4700 BLM Road, Anchorage, Alaska 99507. Electronic mail, facsimile, or telephone comments will not be considered properly filed.

FOR FURTHER INFORMATION CONTACT: Thomas Sparks, Associate Field Manager, BLM Anchorage Field Office, telephone: (907) 443-2177, email: tsparks@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The subject parcel was developed by the applicant's late father, which was previously authorized under a BLM lease (AA-59715). The lease expired but has not been re-authorized. The applicant has been working cooperatively with the BLM to obtain a new authorization. The lease would allow for continued operations of a fuel-storage site at a rental rate of $335 per year (subject to Fair Market Value increases). This current rental rate is based on the Small Use Fee Schedule for remote parcels of land in Alaska, dated July 28, 2020, which was determined by the Department of the Interior—Appraisal and Valuation Services.

The subject lease parcel is isolated from other BLM managed lands and is surrounded by lands previously transferred to the Russian Mission Native Corporation pursuant to the Alaska Native Claims Settlement Act of December 18, 1971. The lease is located approximately 4.6 miles from Russian Mission, Alaska, and is on Federals located within:

Seward Meridian, Alaska

T. 20 N., R.67 W.,

Sec. 1, lot 9

The lease can be more particularly described as follows:

BEGINNING at Corner No. 1, at Latitude 61°51′13.25″ North, Longitude 161°20′01.50″ West, (WGS 84), not monumented, approximately 4.6 miles north of Russian Mission, Alaska; THENCE, North 12°48′28.28″ East, a distance of 150.00 feet to Corner No. 2, not monumented; THENCE North 77°11′31.72″ West, a distance of 150.00 feet to Corner No. 3, not monumented; THENCE South 12°48′28.28″ West, a distance of 150.00 feet to Corner No. 4, not monumented; THENCE South 77°11′31.72″ East, a distance of 150.00 feet to Corner No. 1, at the POINT OF BEGINNING, 0.5 acres, more or less. BASIS OF BEARING: The Bearings herein are referenced to the true meridian.

Information and documentation regarding the lease proposal, including the National Environmental Policy Act assessment, is available at the BLM Anchorage Field Office (see ADDRESSES section). The BLM will not make a final decision on the lease until all required analyses are completed. If authorized, the lease would be subject to provisions of the FLPMA, all applicable regulations of the Secretary of the Interior, including but not limited to 43 CFR part 2920, and valid existing rights.

Interested persons may submit comments regarding the decision to issue a land lease and whether the BLM followed proper administrative procedures in reaching the establishment of a land lease interest. Before including your address, phone number, email address, or other personal identifying information in your comment, you should be aware that your entire comment—including your personal identifying information—may be made publicly available at any time. While you can ask us in your comment to withhold your personal identifying information from public review, we cannot guarantee that we will be able to do so.

Adverse comments will be treated as protests to the decision and will be reviewed by the BLM Alaska State Director, who may sustain, vacate, or modify the realty action. In the absence of any adverse comments, the decision will become effective May 31, 2022.

(Authority: 43 CFR 2920)

Thomas Heinlein,
State Director (Acting).

[FR Doc. 2022-09015 Filed 4-27-22; 8:45 am]

BILLING CODE 4310-JA-P